DEPARTMENT OF COMMERCE

International Trade Administration

SABIT: Applications and Questionnaires

ACTION: Proposed collection; comment request.

SUMMARY: The Department of Commerce, as part of its continuing effort to reduce paperwork and respondent burden, invites the general public and other Federal agencies to take this opportunity to comment on the continuing information collections, as required by the Paperwork Reduction Act of 1995, Public Law 104-13 (44 U.S.C. 3506 (c) (2) (A)).

DATES: Written comments must be submitted on or before July 6, 2001.

ADDRESSES: Direct all written comments to Madeleine Clayton, Departmental Paperwork Clearance Officer, (202) 482-3129, Email Mclayton@doc.gov., Department of Commerce, Room 6086, 14th Street & Constitution Avenue, NW, Washington, DC 20230.

FOR FURTHER INFORMATION CONTACT: Requests for additional information or copies of the information collection instruments and instructions should be directed to: Tracy M. Rollins, SABIT, Room 3319, Department of Commerce, 14th Street & Constitution Avenue, NW, Washington, DC 20230; phone (202) 482-0073, fax (202) 482-2443.

SUPPLEMENTARY INFORMATION:

I. Abstract

The Special American Business Internship Training (SABIT) programs of the Department of Commerce's International Trade Administration (ITA), are a key element in the U.S. Government's efforts to support the economic transition of the Newly Independent States (NIS) of the former Soviet Union. SABIT places business executives and scientists from the Independent States in U.S. firms for one-to-six month internships to gain firsthand experiences working in a market economy. This unique private sector-U.S. Government partnership was created in order to tap the U.S. private sector's expertise in assisting the NIS's transition to a market economy while boosting U.S.-NIS long-term trade.

Under the “regular” (grants) SABIT program, qualified U.S. firms will receive funds through a cooperative agreement with ITA to help defray the cost of hosting interns. The information collected by the Application is needed by the SABIT staff to recruit and screen respondents and provide U.S. firms with a pool of eligible candidates from which to select interns. Intern applications are required to determine the suitability of candidates for SABIT internships. Feedback surveys and end-of-internship reports are needed to enable SABIT to track the success of the program as regards trade between the U.S. and NIS, as well as to improve the content and administration of the programs.

The closing date for applications and supplemental materials is approximately 120 days after date of publication in the Federal Register. Pursuant to section 632(a) of the Foreign Assistance Act of 1961, as amended (the “Act”) funding for the program will be provided by the Agency for International Development (A.I.D.).

II. Method of Collection

The applications are sent to U.S. companies and intern candidates via facsimile or mail upon request. Feedback surveys are given to participating U.S. companies and interns at the completion of the programs.

III. Data

OMB Number: 0625-0225.

Form Number: N/A.

Type of Review: Regular submission.

Affected Public: Business or other non-profit, individuals (non-U.S. citizens).

Estimated Number of Respondents: 1,600.

Estimated Time per Response: 2 hours.

Estimated Total Annual Burden Hours: 3,200.

Estimated Total Annual Cost: $80,000.00.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 1, 2001.
Madeleine Clayton,
Departmental Paperwork Clearance Officer, Office of the Chief Information Officer.

[FR Doc. 01-11332 Filed 5-4-01; 8:45 am]

BILLING CODE 3510-HE-P